DEPARTMENT OF THE INTERIOR

Fish and Wildlife Service

Draft Safe Harbor Agreement With Assurances and Application for an Enhancement of Survival Permit for the Houston Toad on the Lower Colorado River Authority (LCRA)/Lost Pines Scout Reservation in Bastrop County, TX

AGENCY: U.S. Fish and Wildlife Service, Interior.

ACTION: Notice of availability; receipt of application.

SUMMARY: Boy Scouts of America/Capital Area Council (Applicant) has applied to the U.S. Fish and Wildlife Service (Service) for an enhancement of survival permit pursuant to section 10(a)(1)(A) of the Endangered Species Act (Act) of 1973, as amended (16 U.S.C. 1531 et seq.). The requested permit, which is for a period of 15 years, includes a draft Safe Harbor Agreement (SHA) for the endangered Houston toad (Bufo houstonensis) in Bastrop County, Texas. We invite public comment.

DATES: To ensure consideration, written comments must be received on or before October 26, 2006.

ADDRESSES: Persons wishing to review the application may obtain a copy by writing to the Regional Director, P.O. Box 1306, Room 4102, Albuquerque, New Mexico 87103. Persons wishing to review the draft SHA or other related documents may obtain a copy by written or telephone request to Paige Najvar, U.S. Fish and Wildlife Service, 10711 Burnet Road, Suite 200, Austin, Texas 78758 (512-490-0057; Fax 512-490-0974). The documents will also be available for public inspection, by appointment only, during normal business hours (8 a.m. to 4:30 p.m.) at the Service's Austin office. Comments concerning the draft SHA or other related documents should be submitted in writing to the Field Supervisor at the U.S. Fish and Wildlife Service, 10711 Burnet Road, Suite 200, Austin, Texas 78758. Please refer to permit number TE-133115-0 when submitting comments. All comments received will become a part of the official administrative record and may be made available to the public.

FOR FURTHER INFORMATION CONTACT: Paige Najvar at the U.S. Fish and Wildlife Service, 10711 Burnet Road, Suite 200, Austin, Texas 78758 (512-490-0057; Fax 512-490-0974), or Paige_Najvar@fws.gov.

SUPPLEMENTARY INFORMATION: The Applicant has applied to the Service for a section 10(a)(1)(A) enhancement of survival permit for the endangered Houston toad in Bastrop County, Texas for a period of 15 years.

The Service has worked with the Applicant to design and implement conservation activities that are expected to have a net conservation benefit to the Houston toad in Bastrop County, Texas. Conservation activities the Applicant will undertake according to the SHA include: (1) Prescribed burning in every management area on the LCRA/Lost Pines Scout Reservation in order to control invasive woody understory species and decrease existing fuel load; (2) brush thinning activities in forested areas in the eastern, south, and southeastern areas of the property to control invasive woody understory species and to evaluate trends in forest floor plant diversity under different brush control management approaches; (3) restoring and replanting native vegetation in the eastern, south, and southeastern areas of the property to help facilitate Houston toad movement; (4) creating shallow, ephemeral ponds to facilitate and enhance Houston toad breeding success; and (5) treating red imported fire ant (Solenopsis invicta) mounds at newly constructed ponds. These conservation activities are expected to (1) facilitate the establishment of native, herbaceous vegetation as well as expand and enhance potential breeding, foraging, and hibernating habitats for the Houston toad currently on adjacent and nearby properties; (2) protect and preserve habitat to enhance the movement of Houston toads among existing foraging and breeding areas to the south and southeast of the LCRA/Lost Pines Scout Reservation; (3) create Houston toad breeding habitat through pond creation; and (4) collect research data related to the effects of the conservation activities and planned enhancements to help design future management strategies for the Houston toad.

The incidental take of Houston toads may occur from (1) habitat management actions conducted in accordance with the conservation activities in the Agreement, (2) on-going Boy Scout camp activities that may have an increased chance of taking the species if toad numbers increase, as expected, and (3) cessation of the conservation activities, at some point in the future, if the Applicant exercises their authorization to do so under the permit.

We provide this notice pursuant to section 10(c) of the Act, the National Environmental Policy Act (42 U.S.C 4371 et seq.), and its implementing regulations (40 CFR 1506.6).

Christopher Todd Jones,
Acting Regional Director, Region 2, Albuquerque, New Mexico.

[FR Doc. E6-15708 Filed 9-25-06; 8:45 am]

BILLING CODE 4310-55-P